DEPARTMENT OF HOMELAND SECURITY

[Docket No. DHS-2023-0025]

Notice of the Establishment of the Federal School Safety Clearinghouse External Advisory Board; Solicitation of Inaugural Members

AGENCY: Department of Homeland Security (DHS), Cybersecurity and Infrastructure Security Agency (CISA).

ACTION: Notice of new advisory board establishment; solicitation of inaugural members.

SUMMARY: The Secretary of Homeland Security (Secretary), in coordination with the Secretary of Education, the Secretary of Health and Human Services, and the Attorney General, has established the Federal School Safety Clearinghouse External Advisory Board (FSSC EAB or Board). The FSSC EAB will provide advice to the Secretary of DHS, through the Director of CISA, regarding the Federal Clearinghouse on School Safety Evidence-Based Practices (Clearinghouse). DHS is announcing the establishment of the FSSC EAB, a new advisory board and seeks inaugural members of the FSSC EAB.

DATES: Applications to seek membership appointment on the FSSC EAB will be accepted until 11:59 p.m., Eastern Daylight Time, on October 23, 2023.

ADDRESSES: Nominations may be submitted via email to SchoolSafety@hq.dhs.gov.

FOR FURTHER INFORMATION CONTACT: Lindsay Burton, SchoolSafety@hq.dhs.gov, 202-447-4686.

SUPPLEMENTARY INFORMATION: In response to taskings from the Secretary of DHS to meet the statutory requirements of the Bipartisan Safer Communities Act, the FSSC EAB will: (a) Provide feedback on the implementation of evidence-based practices and recommendations of the Clearinghouse (6 U.S.C. 665k(d)(2)(B)(i)); (b) Propose additional recommendations for evidence-based practices for inclusion in the Clearinghouse, provided such recommendations meet evidence-based criteria (6 U.S.C. 665k(d)(2)(B)(ii))); (c) Assist the Departments of Education, Health and Human Services, Homeland Security, and Justice in identifying evidence-based practices (6 U.S.C. 665k(b)(1)(A)); (d) Assist the Departments of Education, Health and Human Services, Homeland Security, and Justice in reviewing past practices and recommendations for inclusion in the Clearinghouse (6 U.S.C. 665k(b)(3)); and (e) Provide user feedback on the implementation of resources, evidence-based practices, and recommendations identified by the Clearinghouse (6 U.S.C. 665k(d)(1)(B)). The FSSC EAB is exempt from the requirements of the Federal Advisory Committee Act, (Pub. L. 92-463).

Membership: The FSSC EAB will consist of a minimum of 15 members and a maximum of 28 members who are appointed by and serve at the pleasure of the Secretary of DHS. Ex-officio members are not included in the total number of members. In order for DHS to fully leverage broad-ranging experience and education, the Board must be diverse with regard to professional and technical expertise. DHS is committed to pursuing opportunities, consistent with applicable law, to compose a committee that reflects the diversity of the nation's people.

Members of the Board will serve as Representatives of their respective interest or sector. Members must be U.S. citizens or legal permanent residents of the United States. Members must be specially qualified to serve on the FSSC EAB by virtue of their education, training, and experience in the fields relevant to school safety, including, but not limited to, education, cybersecurity, law enforcement, public safety, public health, civil rights, developmental psychology, child and adolescent health, social work, and/or emerging technologies.

Members shall be comprised of representatives from the following:

• State government

• Local government

• Educators

• Tribal or Territorial governments

• Organizations representing elementary and secondary school parents and students

• Civil Rights Organizations

• Disability Rights Organizations

• Law Enforcement Organizations

• Non-Profit School Safety and Security Organizations

• Private Sector

• At-Large Members, as determined by the Secretary of DHS

Members will be required to sign a nondisclosure agreement and gratuitous service agreement.

DHS will consider a number of factors to determine each applicant's qualifications as they relate to school safety that would be useful to the Board, such as:

a. Educational background (e.g., education, architecture, administration policy, homeland security, or public policy);

b. Leadership, experience, and accomplishments (e.g., presidents, directors, elected officials); and

c. Employment and membership in associations (e.g., active in school associations or groups).

With the establishment of the FSSC EAB, CISA is accepting submissions of interest to be members of the Board.

When submitting nominations, please do not provide any sensitive personal information. Nominations should be submitted via email, with the required information in the body of the email or in an attachment. Nominations must include the following:

1. The nominee's name, contact information (i.e., email and phone number), location, and organization or institution of employment or volunteering

2. A summary resume that describes the individual's qualifications and experience with respect to the subject matter areas listed above (not to exceed five pages); and

3. A statement acknowledging that support from the representing organization will be required if selected. (Support meaning the organization agrees with the individual's participation.)

Do not include sensitive personal information, such as dates of birth, home addresses, Social Security numbers, etc. Note too, that Nominees will be vetted for national security and public safety considerations. Public trust level security reviews will be conducted before members may serve.

Please submit nominations no later than October 23, 2023 via email to the address in the ADDRESSES section above.

Kaitlin Ross,
Program Specialist, Cybersecurity and Infrastructure Security Agency, Department of Homeland Security.

[FR Doc. 2023-21633 Filed 9-29-23; 8:45 am]

BILLING CODE 9110-9P-P